DEPARTMENT OF COMMERCE

National Oceanic and Atmospheric Administration

RIN 0648-XU75

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The two-day meeting will be held on March 30, 2010 and March 31, 2010.

ADDRESSES: The meeting will be held at the Eastland Park Hotel, 157 High Street, Portland, ME 04101; telephone: (207) 775-5411; fax: (207) 775-2872.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. Tuesday, March 30, 2010 beginning at 9:30 a.m.

The Herring Committee will continue development of catch monitoring alternatives for inclusion in Amendment 5 to the Atlantic Herring Fishery Management Plan (FMP); alternatives may include management measures to: improve quota monitoring and reporting; standardize/certify volumetric measurements of catch; address vessel-to-vessel transfers of Atlantic herring; address requirements for catch monitoring and control plans(CMCPs); address maximized retention; maximize sampling and address net slippage; address at-sea monitoring; address dockside monitoring; require electronic monitoring; and address other elements of catch monitoring in the Atlantic herring fishery.

2. Wednesday, March 31, 2010 beginning at 9 a.m

The Committee will continue the agenda from the previous day - development of catch monitoring alternatives for inclusion in Amendment 5 to the Atlantic Herring FMP. They will discuss issues related to timing of next benchmark stock assessment for Atlantic herring and develop a Committee recommendation for Council consideration. They will also address other elements of Amendment 5 as time permits. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: February 25, 2010.
Tracey L. Thompson,
Acting Director, Office of Sustainable Fisheries, National Marine Fisheries Service.

[FR Doc. 2010-4298 Filed 3-1-10; 8:45 am]

BILLING CODE 3510-22-S